DEPARTMENT OF HEALTH AND HUMAN SERVICES

Centers for Medicare & Medicaid Services

[Document Identifier: CMS-1880 and -1882; CMS-10393; and CMS-R-245]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension without change of a currently approved collection. Title of Information Collection: Certification as a Supplier of Portable X-Ray and Portable X-Ray Survey Report Form and Supporting Regulations at 42 CFR Part 486.100-486.110. Use: CMS-1880 is initially completed by suppliers of portable X-ray services, expressing an interest in and requesting participation in the Medicare program. This form initiates the process of obtaining a decision as to whether the conditions of coverage are met as a portable X-ray supplier. It also promotes data reduction or introduction to, and retrieval from, the Certification and Survey Provider Enhanced Reporting (CASPER) by the CMS Regional Offices (ROs).

CMS-1882 is used by the State survey agency to provide data collected during an on-site survey of a supplier of portable X-ray services to determine compliance with the applicable conditions of participation and to report this information to the Federal Government. The form is primarily a coding worksheet designed to facilitate data reduction and retrieval into the ASPEN system at the CMS ROs. The form includes basic information on compliance (i.e., met, not met, explanatory statements) and does not require any descriptive information regarding the survey activity itself. CMS has the responsibility and authority for certification decisions which are based on supplier compliance with the applicable conditions of participation. The information needed to make these decisions is available to CMS only through the use of information abstracted from the survey report form.

Subsequent to the publication of the 60-day Federal Register notice (December 23, 2011; 76 FR 80372), the Supporting Statement has been revised by making editorial changes and by adding clarifying language. The requirements and burden estimates have not changed. Form Numbers: CMS-1880 (Request for Certification as a Supplier of Portable X-Ray Services), CMS-1882 (Medicare/Medicaid Portable X-Ray Survey Report), and OCN 0938-0027. Frequency: Occasionally. Affected Public: State, Local, or Tribal Governments. Number of Respondents: 579. Total Annual Responses: 86. Total Annual Hours: 151. (For policy questions regarding this collection contact Georgia Johnson at 410-786-6859. For all other issues call 410-786-1326.)

2. Type of Information Collection Request: Existing collection in use without an OMB control number; Title of Information Collection: Medicare Beneficiary and Family-Centered Satisfaction Survey; Use: The data collection methodology used to determine Beneficiary Satisfaction flows from the proposed sampling approach. While it was feasible to conduct the 9th SOW via telephone data collection only, with a quarterly sample size for the 10th SOW estimated to be 2,664, it does not seem efficient to maintain a telephone only data collection approach. Based on recent literature on survey methodology and response rates by mode, we recommend using a data collection that is done primarily by mail. A mail-based methodology will achieve the goals of being efficient, effective, and minimally burdensome for beneficiary respondents.

As previously described, we anticipate that a mail-based methodology could yield a response rate of approximately 60 percent. In order to achieve this response rate, we would recommend a 3-staged approach to data collection:

(1) Mailout of a covering letter, the paper survey questionnaire, and a postage-paid return envelope.

(2) Mailout of a postcard that thanks respondents and reminds the non-respondents to please return their survey.

(3) Mailout of a follow-up covering letter, the paper survey questionnaire, and a postage-paid return envelope.

Through the pilot test, we will determine the response rate that can be achieved using this approach. If it is deemed necessary, additional mailout reminders can be added to the protocol, or a telephone non-response step can be added to the protocol.

Using the 3-step mail approach described above, we anticipate that data collection would occur over an 8 to 10 weeks. This is to say, if the first survey mailing were dropped on May 1, we would anticipate completing data collection at the end of June or early July. Data would then be cleaned, scores would be generated, and data would be delivered to CMS. Through the pilot test, we will determine the precise timing required to achieve an acceptable response rate, but we are aiming to complete sampling, data collection, and scoring within a 12-week period.

Subsequent to the publication of the 60-day Federal Register notice (June 10, 2011; 76 FR 34076), the survey instrument has been separated into two surveys. Prior to this action, there was one survey proposed for the Quality of Care and Appeals review types. Once approved by OMB, there will be two survey instruments that will request similar information: one for Quality of Care and one for Appeals. Form Number: CMS-10393 (OCN 0938-New); Frequency: Once; Affected Public: Individuals or households; Number of Respondents: 16,010; Number of Responses: 16,010; Total Annual Hours: 4,002. (For policy questions regarding this collection, contact Coles Mercier at 410-786-2112. For all other issues call (410) 786-1326.)

3. Type of Information Collection Request: Extension without change of a currently approved collection; Title of Information Collection: Medicare and Medicaid Programs OASIS Collection Requirements as Part of the CoPs for HHAs and Supp. Regs. in 42 CFR 48.55, 484.205, 484.245, 484.250; Use: This data set is currently mandated for use by Home Health Agencies (HHAs) as a condition of participation (CoP) in the Medicare program. Since 1999, the Medicare CoPs have mandated that HHAs use the OASIS data set when evaluating adult non-maternity patients receiving skilled services. The OASIS is a core standard assessment data set that agencies integrate into their own patient-specific, comprehensive assessment to identify each patient's need for home care that meets the patient's medical, nursing, rehabilitative, social, and discharge planning needs. There have not been any changes to the PRA package that is associated with the 60-day Federal Register notice that published on December 16, 2011 (76 FR 78264); Form Number: CMS-R-245 (OCN 0938-0760); Frequency: Occasionally; Affected Public: Private Sector (Business or other for-profit and Not-for-profit institutions); Number of Respondents: 11,495; Total Annual Responses: 16,476,008; Total Annual Hours: 16,567,968. (For policy questions regarding this collection contact Robin Dowell at 410-786-0060. For all other issues call 410-786-1326.)

To obtain copies of the supporting statement and any related forms for the proposed paperwork collections referenced above, access CMS Web Site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on April 12, 2012.

OMB, Office of Information and Regulatory Affairs, Attention: CMS Desk Officer, Fax Number: (202) 395-6974, Email: OIRA_submission@omb.eop.gov.

Dated: March 6, 2012.
Martique Jones,
Director, Regulations Development Group, Division-B, Office of Strategic Operations and Regulatory Affairs.

[FR Doc. 2012-6036 Filed 3-12-12; 8:45 am]

BILLING CODE 4120-01-P